DEPARTMENT OF AGRICULTURE

Forest Service

San Juan National Forest; Colorado; Weminuche Landscape Grazing Analysis

AGENCY: Forest Service, USDA.

ACTION: Notice of intent to prepare an Environmental Impact Statement.

SUMMARY: The Forest Service intends to prepare an Environmental Impact Statement to analyze the impacts of the proposal to continue to authorize term livestock grazing permit(s) on all or portions of the Weminuche Landscape in a manner that moves resource conditions toward desired on-the-ground conditions and is consistent with Forest Plan standards and guidelines. The Environmental Impact Statement will be prepared pursuant to the National Environmental Policy Act and agency policy. The analysis area encompasses approximately 167,000 acres on six active allotments and seven vacant allotments. The project area is located northeast of Durango, Colorado; from northern Missionary Ridge east through the Weminuche Wilderness to the Pine River; in Townships 36-40 North, Ranges 4-9 West, N.M.P.M., and is within the Columbine Ranger District, San Juan National Forest, Colorado.

The proposed action is designed to increase the flexibility of livestock grazing systems through adaptive management, which will allow quicker and more effective response to problem areas when they are revealed. Problems will be revealed through the use of short and long term monitoring. Application of adaptive management practices should result in improved soil, watershed, and vegetative conditions, and healthier wildlife populations.

DATES: If you have supplementary comments which meet the description in Scoping Process, below, they must be received by March 23, 2015. The draft Environmental Impact Statement is expected about April 2015, and the final Environmental Impact Statement is expected about July 2015. A decision is expected about November 2015.

ADDRESSES: If you have supplementary comments which meet the description in Scoping Process, below, send them in written form to Matt Janowiak, Columbine District Ranger, P.O. Box 439, Bayfield, CO 81122. Comments may also be sent via email to comments-rocky-mountain-san-juan-columbine@fs.fed.us, or via facsimile to 970-884-2428.

FOR FURTHER INFORMATION CONTACT: Jared Whitmer, Interdisciplinary Team Leader at 970-884-1416.

Individuals who use telecommunication devices for the deaf (TDD) may call the Federal Information Relay Service (FIRS) at 1-800-877-8339 between 8 a.m. and 8 p.m., Eastern Time, Monday through Friday.

SUPPLEMENTARY INFORMATION:

Preceding EA Process

A previous National Environmental Policy Act process, including public input and impacts analysis, has been conducted for this project under an Environmental Assessment. Due to scientific uncertainty regarding disease transmission between livestock and wildlife, and due to uncertainty of degree of impacts to wildlife population viability, a Finding of No Significant Impact could not be reached for the Environmental Assessment. This resulted in the initiation of this Environmental Impact Statement.

Purpose and Need for Action

The purpose of this action is administer term livestock grazing permits on all or portions of the Weminuche Landscape in a manner that moves resource conditions toward desired on-the-ground conditions and is consistent with Forest Plan standards and guidelines.

Proposed Action and Alternatives

Alternatives to be included in the Environmental Impact Statement are: 1. No Grazing, 2. Current Management, 3. Adaptive Management with Forage Reserves, and 4. Proposed Action, Adaptive Management with Vacant Allotment Closures.

Responsible Official

Columbine District Ranger.

Nature of Decision To Be Made

The Responsible Official will decide whether or not to authorize term grazing permit(s) on all or portions of the Weminuche Landscape, and if grazing is authorized, what design criteria and monitoring will be required. The Responsible Official will also document the decision and reasons for the decision in a Record of Decision. This decision will be subject to Forest Service predecisional objection procedures (36 CFR part 218, Subparts A and B).

Scope of Issues

Extensive prior public involvement has resulted in the following key issues to be analyzed in the Environmental Impact Statement: 1. Impacts of grazing on soil and water, 2. Impacts of grazing on vegetation, including riparian areas and wildflowers, 3. Impacts of grazing on recreational experiences, including grazing in a Wilderness, and hiker interactions with guard dogs, 4. Impacts of grazing on wildlife, including habitat damage and potential disease transmission, 5. Impacts of grazing on socio-economics of the local communities, and 6. Impacts of grazing on cultural resources.

Scoping Process

Written comments that were submitted during scoping and comment periods for the development of the preceding Environmental Assessment will still be considered and are still part of the project record. The Forest Service requests that you do not resubmit the same comments. Because of extensive public input during the Environmental Assessment process, the scope of issues and alternatives to be analyzed in the Environmental Impact Statement have already been well examined and the Forest Service is considering this prior public input as meeting the primary requirement for scoping for the Environmental Impact Statement.

This notice of intent initiates a supplementary scoping process, which is intended to provide the opportunity for the public to comment on the scope of issues and alternatives to be analyzed in the Environmental Impact Statement only if there is new or different information that has not been previously considered. To determine whether your comment or concern has previously been submitted, please read the Scoping Summary and Response to Comments documents found on the project Web page at www.fs.usda.gov/projects/sanjuan/landmanagement/projects, or call Jared Whitmer.

It is important that reviewers provide their comments at such times and in such manner that they are useful to the agency's preparation of the Environmental Impact Statement. Therefore, comments should be provided prior to the close of the comment period and should clearly articulate the reviewer's concerns.

Information regarding this project is available at the Columbine Ranger District office in Bayfield, Colorado, and on the San Juan National Forest Web site noted above. Public meetings may be scheduled at a later date to provide further information as needed. The dates of any public meetings will be announced by press releases in local papers, direct mailings, emails, and will be posted on the San Juan National Forest Web site.

Comments received in response to this solicitation, including names and addresses of those who comment, will be part of the public record for this proposed action. Comments submitted anonymously will be accepted and considered; however, anonymous comments will not provide the Agency with the ability to provide the respondent with subsequent environmental documents.

Dated: February 3, 2015.
Kara L. Chadwick,
Forest Supervisor.

[FR Doc. 2015-03469 Filed 2-18-15; 8:45 am]

BILLING CODE 3410-11-P